DEPARTMENT OF TRANSPORTATION

Federal Aviation Administration

Public Notice for Waiver of Aeronautical Land-Use Assurance, Manistee County Blacker Airport, Manistee, MI

AGENCY: Federal Aviation Administration, DOT.

ACTION: Notice of intent of waiver with respect to land.

SUMMARY: The Federal Aviation Administration (FAA) is considering a proposal to change a portion of the airport from aeronautical use to non-aeronautical use and to authorize the exchange of the airport property. The proposal consists of three parcels, Parcel 9 = 40.0 acres, Parcel 10 = 40.0 acres and Parcel 11 and 12 = 40.0 acres totaling approximately 120.0 acres. The land was originally purchased by the County with state/local funds in 1997/1998.

There are no impacts to the airport by allowing the airport to dispose of the property. The proposed land will be used to increase the Manistee River State Game Area by 44 acres or 58 percent. Approval does not constitute a commitment by the FAA to financially assist in the disposal of the subject airport property nor a determination of eligibility for grant-in-aid funding from the FAA. The disposition of proceeds from the disposal of the airport property will be in accordance FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before November 20, 2003.

FOR FURTHER INFORMATION CONTACT: Ms. Stephanie Swann, Program Manager, Federal Aviation Administration, Great Lakes Region, Detroit Airports District Office, DET ADO-613, Metro Airport Center, 11677 South Wayne Road, Suite 107, Romulus, Michigan 48174. Telephone Number: 734-229-2945/FAX Number: 734-229-2950. Documents reflecting this FAA action may be reviewed at this same location or at Manistee County/Blacker Airport, Manistee, Michigan.

SUPPLEMENTARY INFORMATION: Following is a legal description of the property located in the City of Manistee, County of Manistee, Michigan, and described as follows:

PARCEL 9: T22N, R16W, Sec. 34: NE ¼ OF SW ¼, 40 acres

PARCEL 10: T22N, R16W, Sec. 34: NW ¼ of SE ¼, 40 acres

PARCEL 11 & 12: T22N, R16W, Sec. 34: NE ¼ OF SE ¼, 40 acres

Issued in Romulus, Michigan on September 22, 2003.
Irene R. Porter,
Manager, Detroit Airports District Office, FAA, Great Lakes Region.

[FR Doc. 03-26561 Filed 10-20-03; 8:45 am]

BILLING CODE 4910-13-M